INTERNATIONAL TRADE COMMISSION

[Investigation No. 731-TA-1427 (Final)]

Refillable Stainless Steel Kegs from Mexico

Determination

On the basis of the record ¹ developed in the subject investigation, the United States International Trade Commission (“Commission”) determines, pursuant to the Tariff Act of 1930 (“the Act”), that the establishment of an industry in the United States is materially retarded by reason of imports of refillable stainless steel kegs from Mexico, provided for in subheadings 7310.10 and 7310.29 of the Harmonized Tariff Schedule of the United States, that have been found by the U.S. Department of Commerce (“Commerce”) to be sold in the United States at less than fair value (“LTFV”).2 3 4

¹ The record is defined in sec. 207.2(f) of the Commission's Rules of Practice and Procedure (19 CFR 207.2(f)).

² 84 FR 42894 (August 19, 2019) (final determination).

³ The Commission also finds that imports subject to Commerce's affirmative critical circumstances determination are not likely to undermine seriously the remedial effect of the antidumping duty order on Mexico.

⁴ Commissioners Randolph J. Stayin and Amy A. Karpel did not participate in this investigation.

Background

The Commission, pursuant to section 735(b) of the Act (19 U.S.C. 1673d(b)), instituted this investigation effective September 20, 2018, following receipt of a petition filed with the Commission and Commerce by American Keg Company, LLC, Pottstown, Pennsylvania. The Commission scheduled the final phase of the investigation following notification of preliminary determinations by Commerce that imports of refillable stainless steel kegs were being subsidized by the government of China ⁵ within the meaning of section 703(b) of the Act and that imports of refillable stainless steel kegs from China,⁶ Germany,⁷ and Mexico ⁸ were being sold at LTFV within the meaning of section 733(b) of the Act. Notice of the scheduling of the final phase of the Commission's investigation and of a public hearing to be held in connection therewith was given by posting copies of the notice in the Office of the Secretary, U.S. International Trade Commission, Washington, DC, and by publishing the notice in the Federal Register of June 17, 2019 (84 FR 28070). The hearing was held in Washington, DC, on August 14, 2019, and all persons who requested the opportunity were permitted to appear in person or by counsel.

⁵ 84 FR 13634 (April 5, 2019) (preliminary determination and alignment).

⁶ 84 FR 25745 (June 4, 2019) (preliminary determination and postponement).

⁷ 84 FR 25736 (June 4, 2019) (preliminary determination and postponement).

⁸ 84 FR 25738 (June 4, 2019) (preliminary determination).

The Commission made this determination pursuant to section 735(b) of the Act (19 U.S.C. 1673d(b)). It completed and filed its determination in this investigation on October 3, 2019. The views of the Commission are contained in USITC Publication 4976 (October 2019), entitled Refillable Stainless Steel Kegs from Mexico: Investigation No. 731-TA-1427 (Final).

By order of the Commission.
Issued: October 4, 2019.
Lisa Barton,
Secretary to the Commission.

[FR Doc. 2019-22058 Filed 10-8-19; 8:45 am]

BILLING CODE 7020-02-P